DEPARTMENT OF THE INTERIOR

Fish and Wildlife Service

Availability of a Habitat Conservation Plan and Receipt of an Application for an Incidental Take Permit for Cabin Timber Harvest Plan, Napa County, CA

AGENCY: Fish and Wildlife Service, Interior.

ACTION: Notice of availability.

SUMMARY: This notice advises the public that the California Baptist Foundation (CBF) has applied to the Fish and Wildlife Service (Service) for an incidental take permit pursuant to section 10(a)(1)(B) of the Endangered Species Act of 1973, as amended (Act). The proposed permit would authorize the incidental take of one pair of northern spotted owls (Strix occidentalis caurina), federally listed as a threatened species, that may result due to habitat modification within the nest stand. The permit would be in effect for 5 years.

The Service announces the receipt of CBF's incidental take permit application and the availability of the proposed Cabin Habitat Conservation Plan (Plan), for public comment. The Plan fully describes the proposed project and the measures CBF will undertake to minimize and mitigate project impacts to the northern spotted owl. The Service has determined that the Cabin Timber Harvest Plan (THP)/Plan qualifies as a “Low Effect” Plan as defined by the Service's Habitat Conservation Planning Handbook (November 1996). The Service has further determined that approval of the Plan qualifies as a categorical exclusion under the National Environmental Policy Act, as provided by the Department of Interior Manual (516 DM2, Appendix 1 and 516 DM 6, Appendix 1). The basis for this determination is discussed in a Low-effect Screening form, which is also available for public review. This notice is provided pursuant to section 10(c) of the Act.

DATES: Written comments on the permit application and Plan should be received on or before November 15, 2000.

ADDRESSES: Comments regarding the permit application, low-effect screening form, or the Plan should be addressed to the Fish and Wildlife Service, Habitat Conservation Planning Team, 1829 S. Oregon Street, Yreka, CA 96097. Individuals wishing copies of the application, screening form, and Plan for review should immediately contact the above office. The Plan may be obtained from the following website: www.ccfwo.r1.fws.gov/completedPlans.html. Documents also will be available for public inspection, by appointment, during normal business hours at the above address. All comments received, including names and addresses, will become part of the official administrative record and may be made available to the public.

FOR FURTHER INFORMATION CONTACT: Mr. Phil Detrich, Fish and Wildlife Service, Yreka Fish and Wildlife Office, telephone (530) 842-4471.

SUPPLEMENTARY INFORMATION: Section 9 of the Act and Federal regulation prohibits the “taking” of a species listed as endangered or threatened. Take of listed fish or wildlife is defined under the Act to mean harass, harm, pursue, hunt, shoot, wound, kill, trap, capture, collect, or to attempt to engage in any such conduct. However, the Service, under limited circumstances, may issue permits to “incidentally take” listed species, which is take that is incidental to, and not the purpose of, otherwise lawful activities. Regulations governing permits for threatened and endangered species are promulgated in 50 CFR 17.32 and 50 CFR 17.22, respectively.

Background

The CBF has applied to the Service for a section 10(a)(1)(B) incidental take permit for northern spotted owls, on the Cabin Plan area in Napa County, California. The term of the permit would be 5 years. The Cabin Plan area consists of 15 acres of privately owned land located approximately one mile north of Mt. Veeder, and 5 miles west of the cities of Yountville and Napa in Napa County, California. A THP for the site has previously been approved by the State of California (THP 1-97-201-NAP). The area was partially harvested in 1997, and the CBF currently wish to complete timber harvesting on this property. Completion of the THP will entail a selected harvest of 25 trees from an area approximately 2 acres in size located within the nest stand of a pair of northern spotted owls. A nest stand is defined as the nest tree and the adjoining area up to 500 feet from the nest tree.

The Cabin Plan area is composed of pure hardwood stands, mixed conifer/hardwood stands, and conifer stands occurring mostly as clumps of Douglas-fir and redwood. Habitat in the surrounding area is highly fragmented as a result of conversion from foothill woodlands to vineyards and home sites.

Timber harvest will consist of single tree selection (25 trees within approximately 2 acres). The area will remain in a forested condition following the harvest. There will be no new roads built and existing landing and skid trails will be used. The goals of the Cabin Plan are to allow for the completion of the Cabin THP while protecting any reproductive effort of northern spotted owl pairs resident within the THP boundaries and avoiding adverse effects to aquatic resources for the five year duration of the permit.

As described in the Plan, the applicant proposes the following measures to minimize and mitgate the anticipated project impacts: (A) Retention of existing habitat as functional roosting habitat containing an average of 65 percent canopy closure post-harvest; (B) No trees to be removed are closer than 50 feet to the current nest tree. All trees to be removed shall be directionally felled away from the nest tree. The down logs shall be tractor skidded from existing skid trails to an existing landing outside the nest grove; (C) Operations to complete the Cabin THP shall not occur during the northern spotted owl breeding season (February 1 through July 31) unless it is conclusively demonstrated to the Service that active breeding is not occurring within 1,000 feet of the area of operations.

Monitoring of the known northern spotted owl nest site within the Plan area shall be conducted each spring beginning after March 1 during the permit period by a qualified wildlife biologist to assess continued owl residency and nesting status. If the owls are not detected in the current nest tree, the Cabin Plan area and lands surrounding the Plan area out to ¼ mile will be surveyed in accordance with the guidelines specified in the Protocol for Surveying Proposed Management Activities That May Impact Northern Spotted Owls (USDI Fish and Wildlife Service 1992b). If the Service adjusts the dates of protocol application, the CBF will be entitled to use those dates. Should the Service revise the northern spotted owl survey protocol, the CBF may elect to adopt the new protocol, or continue to use the protocol currently in place.

The Service has determined that the Cabin Plan qualifies as a “Low Effect” Plan as defined by the Service's Habitat Conservation Planning Handbook. Low Effect Plans are those involving: (1) Minor or negligible effects on federally listed and candidate species and their habitats; and (2) minor or negligible effects on other environmental values or resources. The Cabin Plan qualifies as a Low Effect Plan for the following reasons:

1. Approval of the Plan will result in minor or negligible effects on the northern spotted owl. The Service does not anticipate that significant direct or cumulative effects to the owl will result from the proposed 2 acres of selection harvest. No other federally listed, proposed, or candidate species are known or expected to occur within or immediately adjacent to the proposed harvest, and the National Marine Fisheries Service has determined that, as a result of incorporation of aquatic protection measures, the project is not likely to adversely affect listed salmomids that may occur in the watershed below the project area.

2. The proposed harvest will not have adverse effects on unique geographic, historic or cultural sites, or involve unique or unknown environmental risks.

3. Approval of the Plan will not result in any cumulative or growth inducing impacts and, therefore, will not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of this Plan will not establish a precedent for future action or represent a decision in principle about future actions with potentially significant environmental effects.

The Service has therefore determined that approval of the Cabin THP/Plan qualifies as a categorical exclusion under the National Environmental Policy Act, as provided by the Department of Interior Manual (516 DM2, Appendix 1 and 516 DM 6, Appendix 1). No further National Environmental Policy Act documentation will therefore be prepared. This notice is provided pursuant to section 10(c) of the Act. The Service will evaluate the permit application, Plan, and comments submitted thereon to determine whether the application meets the requirements of section 10(a) of the Act. If it is determined that the requirements are met, a permit will be issued for the incidental take of the northern spotted owl. The final permit decision will be made no sooner than 30 days from the date of this notice.

Dated: October 10, 2000.
Elizabeth H. Stevens,
Deputy Manager, California/Nevada Operations Office, Sacramento, California.

[FR Doc. 00-26537 Filed 10-13-00; 8:45 am]

BILLING CODE 4130-55-P